DEPARTMENT OF ENERGY

Federal Energy Regulatory Commission

[Docket Nos. RP00-336-000, RP00-336-001 and RP00-336-002]

El Paso Natural Gas Company; Notice of Technical Conference

August 2, 2001.

On July 18 and 19, 2001, a technical conference was held in the above-captioned proceeding. It was agreed at the conference that El Paso would provide the parties and the Commission staff with additional analysis of the use of capacity on its system and with written answers to several questions raised at the conference. It was also agreed that after submission of this information, a second technical conference would be held.

Take notice that a technical conference will be held in this proceeding on Tuesday, August 28, 2001 at 10 am, in a room to be designated at the offices of the Federal Energy Regulatory Commission, 888 First Street, NE., Washington, DC 20426. The conference will continue through Wednesday, August 29, 2001, if necessary.

All interested parties and staff are permitted to attend.

David P. Boergers,
Secretary.

[FR Doc. 01-19885 Filed 8-7-01; 8:45 am]

BILLING CODE 6717-01-P